NATIONAL FOUNDATION ON THE ARTS AND HUMANITIES

National Endowment for the Arts; Submission of OMB Review: Comment Request

The National Endowment for the Arts (NEA) has submitted the following public information collection request (ICR) to the Office of Management and Budget (OMB) for review and approval in accordance with the Paperwork Reduction Act of 1995 [Pub. L. 104-13, 44 U.S.C. Chapter 35]. Copies of the ICR, with applicable supporting documentation, may be obtained by contacting Sunil Iyengar via telephone at 202-682-5654 (this is not a toll-free number) or e-mail at research@arts.endow.gov. Individuals who use a telecommunications device for the deaf (TTY/TDD) may call 202-682-5496 between 10 a.m. and 4 p.m. Eastern time, Monday through Friday.

Comments should be sent to the Office of Information and Regulatory Affairs, Attn: OMB Desk Officer for the National Endowment for the Arts, Office of Management and Budget, Room 10235, Washington, DC 20503, 202-395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submission of responses.

Agency: National Endowment for the Arts.

Title: Study of Outdoor Arts Festivals.

OMB Number: New.

Frequency: One time.

Affected Public: Festival organizers.

Estimated Number of Respondents: 7769.

Estimated Time Per Respondent: 16.0 minutes.

Total Burden Hours: 2071 hours.

Total Annualized Capital/Startup Costs: 0.

Total Annual Costs (Operating/Maintaining Systems or Purchasing Services): 0.

Description: The National Endowment for the Arts plans to conduct a study of outdoor arts festivals in the United States. There currently is no single, comprehensive research publication or database that describes the range and/or impact of arts festivals in this country. The study proposed here is a two-pronged research effort to describe the U.S. outdoor festival community—among other characteristics, its number, types, financing, staffing, regional distribution, and artist employment patterns. The first prong of the study is a national on-line survey of the universe of outdoor arts festivals, and the second is a series of seven case studies of festivals involving site visits, audience surveys, interviews with festival administrators, focus groups of artists, and focus groups of volunteers. Festivals in the study may be one-day or season-long programs, multi-disciplinary or discipline-specific, and funded by non-profit or for-profit organizations. The activities include collecting uniform data from festival organizers while still keeping data collection burdens to a minimum.

ADDRESSES: Sunil Iyengar, National Endowment for the Arts, 1100 Pennsylvania Avenue, NW., Room 616, Washington, DC 20506-0001, telephone (202) 682-5654 (this is not a toll-free number), fax (202) 682-5677.

Kathleen Edwards,
Support Services Supervisor, Administrative Services, National Endowment for the Arts.

[FR Doc. E9-200 Filed 1-8-09; 8:45 am]

BILLING CODE 7537-01-P